Title 3—

The President

Proclamation 9581 of March 31, 2017

Cancer Control Month, 2017

By the President of the United States of America

A Proclamation

The creativity and commitment of America's incredible medical research and healthcare communities have made the United States the biomedical innovation capital of the world. In particular, American innovators have made ground-breaking advances in cancer research. These innovations help drive the declining rates of cancer mortality.

Still, much work remains to be done. Cancer is still the second-leading cause of death in the United States and causes too much suffering for too many of our families and communities.

During Cancer Control Month, we honor the memory of loved ones lost to cancer and we celebrate our cancer survivors. We recommit ourselves to developing cures for those currently battling this disease across the country and to educating people on the many ways they can prevent cancer and take care of those who have fallen ill.

Our Nation is committed to winning the fight against cancer. Throughout April, we promote methods to combat cancer and we recognize the thousands of medical professionals, public health advocates, scientific researchers, innovative companies, and family members and friends who treat, find cures for, and support those suffering from all forms of cancer.

My Administration will continue to work with the Congress to implement the 21st Century Cures Act and clear the way for enormous breakthroughs in medical science. Cutting-edge research can transform cancer treatment, so that it is more effective, less toxic, and less debilitating. Together, we will make possible the medical advances necessary to prevent, treat, and defeat this disease.

Experts believe that nearly half of the most common cancers can be prevented. Americans can reduce their risk of developing cancer through healthy eating habits, regular physical activity, and avoiding tobacco and excessive alcohol consumption. Regular physicals and cancer screenings and awareness of family medical histories are also critical to preventing cancers and helping those who fall victim to cancer discover it at earlier, more treatable stages.

Because of the toll cancer imposes on our citizens, families, and communities, as well as the importance of promoting prevention and early detection, my Administration wholeheartedly concurs in the request of the Congress, that dates back to 1938, to declare April as “Cancer Control Month.”

NOW, THEREFORE, I, DONALD J. TRUMP, President of the United States of America, by virtue of the authority vested in me by the Constitution and the laws of the United States, do hereby proclaim April 2017 as Cancer Control Month. I call upon the people of the United States to speak with their doctors and healthcare providers to learn more about preventive measures that can save lives. I encourage citizens, government agencies, private businesses, nonprofit organizations, the media, and other interested groups to increase awareness of what Americans can do to prevent and control cancer. I also invite the Governors of the States and Territories and officials of other areas subject to the jurisdiction of the United States to join me in recognizing Cancer Control Month.

IN WITNESS WHEREOF, I have hereunto set my hand this thirty-first day of March, in the year of our Lord two thousand seventeen, and of the Independence of the United States of America the two hundred and forty-first.

[FR Doc. 2017-06940

Filed 4-4-17; 11:15 am]

Billing code 3295-F7-P